DEPARTMENT OF COMMERCE

National Oceanic and Atmospheric Administration

RIN 0648-XF399

Marine Mammals; File No. 21170

AGENCY: National Marine Fisheries Service (NMFS), National Oceanic and Atmospheric Administration (NOAA), Commerce.

ACTION: Notice; receipt of application.

SUMMARY: Notice is hereby given that Keith Ellenbogen, Keith Ellenbogen Photography, 795 Carroll St., Brooklyn, NY 11215, has applied in due form for a permit to conduct commercial or educational photography on marine mammals.

DATES: Written, telefaxed, or email comments must be received on or before June 7, 2017.

ADDRESSES: These documents are available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Amy Hapeman, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant proposes to film and photograph cetaceans and seals within the U.S. northeast Atlantic waters of the U.S., from the Gulf of Maine (including Cape Cod Bay and Stellwagen Bank National Marine Sanctuary) through the New York Bight (Montauk, NY to Cape May, NJ), including the Hudson Canyon. Up to 810 humpback whales (Megaptera novaeangliae, West Indies Distinct Population Segment); 225 long-finned pilot whales (Globicephala melaena); 225 harbor porpoises (Phocoena phocoena); 225 short-beaked common dolphin (Delphinus delphis); 225 Risso's dolphins (Grampus griseus); 225 bottlenose dolphins (Tursiops truncatus); 225 striped dolphins (Stenella coeruleoalba); 225 Atlantic white-sided dolphins (Lagenorhyncus acutus); 900 harbor seals (Phoca vitulina); and 900 grey seals (Halichoerus grypus) may be harassed during close approaches by marine vessels and experienced swimmers and divers for photography and filming purposes. The permit is requested for five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: May 3, 2017.
Julia Harrison,
Chief, Permits and Conservation Division, Office of Protected Resources, National Marine Fisheries Service.

[FR Doc. 2017-09299 Filed 5-5-17; 8:45 am]

BILLING CODE 3510-22-P